NUCLEAR REGULATORY COMMISSION

[NRC-2016-0133]

Dedication of Commercial-Grade Items for Use in Nuclear Power Plants

AGENCY: Nuclear Regulatory Commission.

ACTION: Regulatory guide; issuance.

SUMMARY: The U.S. Nuclear Regulatory Commission (NRC) is issuing Revision 0 to Regulatory Guide (RG) 1.164, “Dedication of Commercial-Grade Items for Use in Nuclear Power Plants” This RG provides new guidance that describes methods that the NRC staff considers acceptable in meeting regulatory requirements for dedication of commercial-grade items used in nuclear power plants.

DATES: Revision 0 to RG 1.164 is available on June 27, 2017.

ADDRESSES: Please refer to Docket ID NRC-2016-0133 when contacting the NRC about the availability of information regarding this document. You may obtain publicly-available information related to this document using any of the following methods:

• Federal Rulemaking Web site: Go to http://www.regulations.gov and search for Docket ID NRC-2016-0133. Address questions about NRC dockets to Carol Gallagher; telephone: 301-415-3463; email: Carol.Gallagher@nrc.gov. For technical questions, contact the individuals listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document. Revision 0 to RG 1.164 and the regulatory analysis may be found in ADAMS under Accession Nos. ML17041A206 and ML15313A423, respectively.

• NRC's PDR: You may examine and purchase copies of public documents at the NRC's PDR, Room O1-F21, One White Flint North, 11555 Rockville Pike, Rockville, Maryland 20852.

FOR FURTHER INFORMATION CONTACT: Jonathan Ortega-Luciano, Office of New Reactors, telephone: 301-415-1159, email: Jonathan.Ortega-Luciano@nrc.gov and Stephen Burton, Office of Nuclear Regulatory Research, telephone: 301-415-7000, email: Stephen.Burton@nrc.gov. Both are staff members of the U.S. Nuclear Regulatory Commission, Washington, DC 20555-0001.

SUPPLEMENTARY INFORMATION:

I. Discussion

The NRC is issuing a new guide in the NRC's “Regulatory Guide” series. This series was developed to describe and make available to the public information regarding methods that are acceptable to the NRC staff for implementing specific parts of the agency's regulations, techniques that the NRC staff uses in evaluating specific issues or postulated events, and data that the NRC staff needs in its review of applications for permits and licenses.

Revision 0 of RG 1.164 (ADAMS Accession No. ML17041A206) was issued with a temporary identification of Draft Regulatory Guide, DG-1292 (ADAMS Accession No. ML15313A425). This RG proposes new guidance that describes methods that the NRC staff considers acceptable in meeting regulatory requirements for dedication of commercial-grade items used in nuclear power plants.

II. Additional Information

The NRC published a notice of the availability of DG-1292 in the Federal Register on July 8, 2016 (81 FR 44670), for a 60-day public comment period. The public comment period closed on September 6, 2016. Public comments on DG-1292 and the staff responses to the public comments are available under ADAMS under Accession No. ML17041A202.

III. Congressional Review Act

This RG is a rule as defined in the Congressional Review Act (5 U.S.C. 801-808). However, the Office of Management and Budget has not found it to be a major rule as defined in the Congressional Review Act.

IV. Backfitting and Issue Finality

Regulatory Guide 1.164, Revision 0, describes a method that the staff of the NRC considers acceptable for dedication of commercial-grade items for use in nuclear power plants. Issuance of this RG does not constitute backfitting as defined in 10 CFR 50.109 (the Backfit Rule) and is not otherwise be inconsistent with the issue finality provisions in 10 CFR part 52. As discussed in the “Implementation” section of this RG, the NRC has no current intention to impose this RG on holders of current operating licenses or combined licenses.

Dated at Rockville, Maryland, this 16th day of June 2017.
For the Nuclear Regulatory Commission.
Edward O'Donnell,
Acting Chief Regulatory Guidance and Generic Issues Branch, Division of Engineering, Office of Nuclear Regulatory Research.

[FR Doc. 2017-13161 Filed 6-26-17; 8:45 am]

BILLING CODE 7590-01-P